DEPARTMENT OF TRANSPORTATION

National Highway Traffic Safety Administration

[Docket No. NHTSA-2023-0063]

Agency Information Collection Activities; Submission to the Office of Management and Budget for Review and Approval; Request for Comment; Human Interaction With Driving Automation Systems

AGENCY: National Highway Traffic Safety Administration (NHTSA), Department of Transportation (DOT).

ACTION: Notice and request for comments on a request for approval of a new collection of information.

SUMMARY: In compliance with the Paperwork Reduction Act of 1995 (PRA), this notice announces that the Information Collection Request (ICR) summarized below will be submitted to the Office of Management and Budget (OMB) for review and approval. The ICR describes the nature of the information collection and its expected burden. The National Highway Traffic Safety Administration (NHTSA) invites public comments about our intention to request approval from the Office of Management and Budget (OMB) for a new information collection. The proposed collection of information described below supports research addressing safety-related aspects of drivers' interactions with driving automation systems. A Federal Register Notice with a 60-day comment period soliciting comments on the following information collection was published on December 12, 2023. Comments were received from the Insurance Institute for Highway Safety (IIHS).

DATES: Comments must be submitted on or before July 11, 2024.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact: Eric Traube, Office of Vehicle Safety Research, Human Factors/Engineering Integration Division NSR-310, West Building, W46-424, 1200 New Jersey Ave SE, Washington, DC 20590; eric.traube@dot.gov. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

Title: Human Interaction with Driving Automation Systems

OMB Control Number: New.

Form Numbers: There are multiple forms for this collection including: Eligibility Questionnaire, NHTSA Form 1742; Informed Consent Study 1, NHTSA Form 1743; Informed Consent Study 2, NHTSA Form 1744; Informed Consent Study 3, NHTSA Form 1745; Pre-Drive Questionnaire, NHTSA Form 1746; Wellness Questionnaire, NHTSA Form 1747; In-Drive Questionnaire, NHTSA Form 1748; Post-Drive Questionnaire, NHTSA Form 1749.

Type of Request: New information collection.

Type of Review Requested: Regular.

Requested Expiration Date of Approval: Three years from date of approval.

Summary of the Collection of Information:

The National Highway Traffic Safety Administration (NHTSA) has proposed to perform research involving the collection of information from the public as part of a multi-year effort to learn about how humans interact with driving automation systems (DAS). This research will support NHTSA in understanding the potential safety challenges associated with human-DAS interactions, particularly in the context of mixed traffic interactions where some vehicles have DAS and others do not. Within mixed traffic environments, vehicles may also have DAS that perform more or less of the driving task (i.e., different levels of automation) and come with their own sets of expectations and limitations.

The research will involve human subjects testing using a driving simulator. The goal is to understand how drivers interact with driving automation systems, specifically in situations where the automation behaves unlike a human driver. The project will measure interactions between humans and driving automation systems by (1) examining driving performance measures (such as takeover time and reaction time), (2) measuring understanding of the automation through questionnaires, (3) measuring trust in automation using questionnaires, and (4) measuring risk taking through questionnaires and a simple behavioral task on a computer. This research will add to NHTSA's state of knowledge and is not immediately intended to inform regulations or policy. The research will be conducted in three parts, referred to as Study 1, Study 2, and Study 3. All study procedures will be approved by the University of Iowa Institutional Review Board (IRB). Data collection will begin upon receipt of PRA clearance and will involve human-subjects data collection using the driving simulators at the University of Iowa Driving Safety Research Institute (DSRI).

The data collections will be performed once to obtain the target number of valid test participants. Study participants will be members of the general public and participation will be voluntary with monetary compensation provided. Participants will include licensed drivers aged 18 to 65 who are healthy and able to drive without assistive devices. Participants will be recruited using the DSRI registry and through email blasts to University of Iowa community.

The objective of the first study is to understand how humans interact with DAS in mixed traffic environments, driving environments where some vehicles have automated capabilities, and some vehicles are driven manually. In the first study, participants will participate in pairs with each participant driving a separate driving simulator but interacting in the same driving environment. Participants will experience one of two driving automation systems. Both members of the participant pair will provide informed consent, a pre-drive questionnaire, a training presentation, a familiarization drive, wellness questionnaires to screen for simulator sickness, a study drive, in-drive ratings of trust, a post-drive questionnaire, and a risk-propensity assessment. During the simulator drives, one member of the pair will perform a continuous drive along a specified route. The other member of the pair will complete three short drives where they interact with the other participant at specific points throughout the drive. The simulator will collect vehicle data (e.g., brake inputs, steering wheel angle) and data about the surrounding environment (e.g., distance to surrounding vehicles and lane markings). After the drives, participants will complete a questionnaire to assess their understanding of the DAS and their trust in and acceptance of the DAS. Data will be analyzed to understand how human drivers interact with DAS in mixed traffic situations and to understand how humans understand and perceive automation in different situations.

Study 2 will focus on understanding the impact of different levels of automated system capability, defined by how well the automation can perform different driving behaviors. In the second study, participants will complete a drive in a driving simulator with a driving automation system. The study drive will contain situations to which the DAS must respond. Participants will be randomly assigned to one of three systems with different capabilities, defined by how well the automation can navigate the set of test situations. The simulator will collect vehicle data (e.g., brake inputs, steering wheel angle) and data about the surrounding environment (e.g., distance to surrounding vehicles and lane markings). After the drives, participants will complete a questionnaire to assess their understanding of the DAS and their trust in and acceptance of the DAS as well as a risk-propensity assessment. Data will be analyzed to understand how human drivers interact with DAS in mixed traffic situations and to understand how humans understand and perceive automation in different situations.

Study 3 will be similar to Study 2 but will focus on how the decision-making behaviors of the automated driving systems impact user experience and driving performance. In the third study, participants will complete a drive in a driving simulator with a driving automation system. The study drive will contain situations to which the DAS must respond. Participants will be randomly assigned to one of three systems with different capabilities, defined by how well the automation can navigate the set of test situations. Procedures for the three studies are identical apart from the study drive experienced.

These three studies will involve information collection through participant screening questions, a pre-drive questionnaire, a wellness questionnaire to measure simulator sickness symptoms, assessment of driving performance in a driving simulator with a situational trust questionnaire administered at points during the study drives, a post-drive questionnaire, and a behavioral assessment of risk-taking propensity called the balloon analogue risk task (BART).

The National Highway Traffic Safety Administration's (NHTSA) mission is to save lives, prevent injuries, and reduce economic costs associated with motor vehicle crashes. As new vehicle technologies are developed, it is prudent to ensure that they do not create any unintended decrease in safety. The safe deployment of driving automation systems, particularly when deployed in mixed traffic where some vehicles are controlled by automation and some are controlled manually, requires an understanding of how humans respond to and perceive different automation behavior. This work seeks to examine how drivers interact with driving automation systems in a wide sample of contexts and different levels of automation.

The collection of information will consist of

1. Eligibility Questionnaire (NHTSA Form 1742).

2. Informed Consent Study 1 (NHTSA Form 1743).

3. Informed Consent Study 2 (NHTSA Form 1744).

4. Informed Consent Study 3 (NHTSA Form 1745).

5. Pre-Drive Questionnaire (NHTSA Form 1746).

6. Wellness Questionnaire (NHTSA Form 1747).

7. Driving Behavior Assessment (Pre-Drive PowerPoint Training, Familiarization Drive, Study Drive with In-Drive Questionnaire (NHTSA Form 1748).

8. Post-Drive Questionnaire (NHTSA Form 1749).

9. Balloon Analogue Risk Task (BART).

The information to be collected will be used for the following purposes:

1. Eligibility Questionnaire (NHTSA Form 1742)—Necessary for determining individuals' suitability for study participation based on driving experience and history, general health, and ability to safely drive in the simulator without health concerns. The Eligibility Questionnaire will solely be used to determine individuals' suitability for study participation and will not be analyzed in any way. These criteria will remain the same across studies.

2. Informed Consent Study 1 (NHTSA Form 1743)—Necessary for obtaining informed written consent from the participant to participate in the study. The form describes all study procedures, data storage and use, and potential risks from the study.

3. Informed Consent Study 2 (NHTSA Form 1744)—Necessary for obtaining informed written consent from the participant to participate in the study. The form describes all study procedures, data storage and use, and potential risks from the study.

4. Informed Consent Study 3 (NHTSA Form 1745)—Necessary for obtaining informed written consent from the participant to participate in the study. The form describes all study procedures, data storage and use, and potential risks from the study.

5. Pre-Drive Questionnaire (NHTSA Form 1746)—Necessary for collecting data used to measure participants' understanding (i.e., mental model) of DAS and their pre-drive trust in the DAS. Collecting these data before and after the drives will let us measure how exposure to the DAS impacts understanding and trust. Demographic information (e.g., age, sex, gender, race, ethnicity) will also be collected. This pre-drive questionnaire will remain the same across all three studies.

6. Wellness Questionnaire (NHTSA Form 1747)—Necessary for evaluating simulator sickness symptoms to determine individuals' ability to complete the study drive in the driving simulator. This questionnaire will be administered pre-drive (to obtain baseline ratings), after the familiarization drive, and after the study drive. This wellness questionnaire will remain the same across all three studies.

7. Driving Behavior Assessment (Study Drive) with In-Drive Questionnaire (NHTSA Form 1748)—Before the study drive, participants will complete training via a PowerPoint presentation on a computer in a private study room. The presentation will introduce the simulator, the familiarization and study drive procedures, the DAS, and the non-driving email task. The familiarization drive is necessary to acclimate the participant to the driving simulator and perform a real-time determination for simulator sickness while training the participant on how to use the driving automation system. The study drive is necessary for gathering driving performance information for the purpose of assessing how drivers interact with automated systems and the impact of these interactions on safety. The in-drive questionnaire is necessary for understanding drivers' trust in the DAS at various points during the study drive. In Study 1, this information is collected after the events where the pair of research participants interact with one another. In Studies 2 & 3, this information is collected after the four events where the behavior of the automation varies across the different conditions. The information will be used to measure trust in the DAS following specific events. These questions will remain the same across all three studies.

8. Post-Drive Questionnaire (NHTSA Form 1749)—Necessary for collecting data used to measure participants' understanding (i.e., mental model) of DAS and their post-drive trust in the DAS, as well as general risk-taking behavior while driving. This post-drive questionnaire will remain the same across all three studies.

9. Balloon Analogue Risk Task (BART)—Necessary for measuring objective risk-taking propensity. For this computerized task, participants are presented with 20 different balloons (20 trials) and told that “the actual number of pumps for any particular balloon will vary.” Participants are instructed to attempt to earn as many points as possible. At the beginning of each trial, the participant decides how many pumps they thought the balloon would hold and input this number. Each balloon inflates for 3 seconds and then either pops or stays intact depending on whether the participant's wager was above or below the predetermined explosion point for that balloon. If the balloon is pumped past its explosion point, it will pop, and the participant earns no points for that balloon. If the balloon is not pumped past the explosion point, the participant keeps the number of pumps as points. After each outcome, a new deflated balloon appears on the screen and points earned will be added to the total. Each balloon could earn a maximum of 128 points with an explosion point equally likely to occur on any given pump participant to the constraint that within each sequence of 10 balloons the average explosion point was on pump 64. The task will remain the same across the three studies and is a standardized online tool.

Description of the Need for the Information and Proposed Use of the Information:

NHTSA was established by the Highway Safety Act of l970 (23 U.S.C. 101) to carry out a Congressional mandate to reduce deaths, injuries, and economic losses resulting from motor vehicle crashes on the Nation's highways. As part of this mandate, NHTSA is authorized to conduct research as a foundation for the development of traffic safety programs. As new vehicle technologies are developed, it is prudent to ensure that they do not create any unintended decrease in safety. The safe deployment of driving automation systems, particularly when deployed in mixed traffic where some vehicles are controlled by automation and some are controlled manually, requires an understanding of how humans respond to and perceive different automation behavior. This work seeks to examine how drivers interact with driving automation systems in a wide sample of contexts and different levels of automation.

60-Day Notice:

A Federal Register Notice with a 60-day comment period soliciting comments on the following information collection was published on December 12, 2023 (88 FR 86202). Comments were received from the Insurance Institute for Highway Safety (IIHS).

NHTSA is grateful for the thorough and detailed review of the 60-day notice and the time and attention IIHS has given to ensure appropriate study parameters have been and will be taken into account. IIHS did not disagree with the sampling methodology or size, the design of the study or order of carryout, or the time or costs associated with the collection, so therefore no changes will be made to the study design or sampling methodology. The comments do not affect the burden estimates and therefore no changes will be made to the burden calculations.

IIHS recommended factoring experience, both as a driver and as a passenger where applicable, with each level of driving automation tested in the sampling approach and/or data analysis. We thank IIHS for this suggestion and agree about the importance of considering experience with automation in this project. We plan to collect information regarding participants' experience with automation, their understanding (i.e., mental model) of automation, and their trust in vehicle automation technologies via forms included in this information collection: Pre-Drive Questionnaire, NHTSA Form 1746; In-Drive Questionnaire, NHTSA Form 1748; Post-Drive Questionnaire, NHTSA Form 1749. While we do not plan to include experience as a variable in our study design, we will be able to use the information collected to gain insight into differences in human-automation interaction based on prior experience and understanding.

IIHS commented that experimental manipulation of the simulated driving scenarios could be used to objectively evaluate different levels of situational awareness of the surrounding traffic and wayfinding ability and accuracy. They specifically mentioned reactive and proactive changes in behavior around object detection, trip planning, and navigation updating as important safety-related indicators of how people interact with their vehicles. We thank IIHS for this comment. We agree that variables other than vehicle kinematics should be considered in measuring driver behavior in the test scenarios. To that end, we will collect information about driver glance behavior and visual attention from eye tracking in the simulator. We will also collect video data of both the driver and driving environment, such that we can code and understand how drivers respond to events involving vehicle automation. We will incorporate this feedback to also consider proactive changes in behavior, such as environmental scanning and latent hazard detection. We agree that trip planning and navigation may also yield valuable information from human-automation interactions, but these tasks are more difficult to replicate in the simulator and fall outside the scope of this project.

IIHS also recommended that NHTSA measure behind-the-wheel behavior, such as gaze and hand activity, because where the driver is looking and what their hands are doing will affect other behavior related to vehicle control. They noted that secondary activity, both driving-related and non-driving-related, is a normal phenomenon in driving with and without automation support and provided examples. IIHS wished for their inclusion in the set of dependent variables to better understand differences between participants and any changes in vehicle-kinematic behavior in the different driving scenarios. We completely agree with the suggestion. Our plan is to examine gaze, hand, and foot behavior during the study events. Previous work shows the importance of understanding (dis)engagement beyond looking at system status or takeover time. In this project, we plan to include different combinations of driving-related and non-driving-related secondary tasks (NDRTs). As IIHS suggests, we plan to examine driver interactions with automated vehicle interfaces, particularly in windows where automation encounters edge case or challenging situations in the study drives. The second and third studies will also include NDRTs and our analyses will consider outcomes such as attentional shifts between NDRTs and driving (or monitoring) as an outcome of different automated vehicle behaviors.

Related to the prior recommendation, IIHS recommended paying close attention to the driver management strategies incorporated in the design of the simulated vehicle. Design factors around driver monitoring, attention reminders, and last-resort countermeasures should be considered as they will shape the observable behind-the-wheel behavior, physical vehicle control, and interactions with the simulated vehicle's interfaces. We completely agree and, to the extent possible, we will include management strategies that are representative of production or near-production systems. We will also include methods to set appropriate levels of expectation in our sample of drivers about the management strategy being used and the expectations for both the driver and the automated system.

IIHS also noted that the design philosophies currently behind Level 0 to 3 systems in production vary considerably among manufacturers to produce unique relationships between their customers and the technologies in their vehicles such that no two systems of a given level of driving automation should be considered the same. IIHS observed that these factors may produce confounds in the data if they are not considered in the design of the simulated systems under test. We agree with IIHS that the design of currently deployed automated systems varies considerably, and these design differences almost certainly have an impact on driver interactions. Our approach for the project will be to create systems in the simulator that are strong representations of some of the available technologies, understanding that other system designs could yield different driver-system interactions. Throughout our reporting on the project, we will clearly specify what design(s) our simulated system intends to replicate, what differences may exist, and the differences that exist from other systems not included in the simulator studies that are currently classified as within the same levels of automation. We will make clear what conclusions can and cannot be drawn about system design characteristics and be careful to avoid making general conclusions about a level of automation or type of automated system when there is variability in design that cannot be fully captured within the scope of the project.

Lastly, IIHS commented that how the simulated vehicle responds to different traffic conflicts or ambiguous driving scenarios in the study series will have ramifications on participant behavior. They noted that the realism of disruptions in system performance matters, both in terms of a sudden cessation of support as well as inappropriate system behavior. They were concerned that if care is not taken to ensure those disruptions are realistic and conform with what is technically possible and likely using what is known based on current implementations, it may affect participant behavior in ways that are outside the scope of the research and thus limit the generalizability of the findings. We very much agree with the point that the situations and automated vehicle behaviors studied in this project need to match real-world situations and systems as closely as possible. We will use all available information to design the study scenarios to be representative of situations automation might encounter and might reasonably fall within a system's operational design domain. We will review information about available automated vehicle systems and make sure that the design of our study is consistent with the design of the systems.

We again thank IIHS for the thorough nature of their comments and will use them to improve the data collection.

Affected Public:

Individuals aged 18+ from Eastern Iowa and the surrounding areas who have volunteered to take part in driving studies will be contacted for participation. They will be randomized evenly by sex, though some imbalance will be permitted to be inclusive of individuals who do not identify on the gender spectrum or as a result of differences in how sex may be identified on drivers' licenses across States. Efforts will be made to enroll a diverse age sample that broadly represents the age of the driving population and includes those at greater risk of crashing (e.g., less than 25 years of age and greater than 65 years of age). Businesses are ineligible for the sample and will not be contacted.

Estimated Number of Responses: 1,033 responses

To obtain the target number of 224 valid test participants. Assuming typical data loss rates for simulator testing with human participants, it is anticipated that 300 participants will need to be run in order to obtain 224 valid participant datasets. This will ensure sufficient statistical power in each of the three studies to detect differences between conditions.

Information for the three studies will be obtained in an incremental fashion to permit the determination of which individuals have the necessary characteristics for study participation. All interested candidates will complete the Eligibility Questionnaire once. From the subset of individuals found to meet the criteria in the Eligibility Questionnaire, a subset will be chosen with the goal of achieving a sample providing a balance of sex to be scheduled for study participation and complete the appropriate informed consent once. Some imbalance will be allowed to be inclusive of all identities since not all individuals will identify on the gender spectrum. Participants will complete the Pre-Drive Questionnaire, one time, before a familiarization drive and the Wellness Questionnaire a total of three times to screen for simulator sickness. Participants who pass the screening will complete the remainder of the study procedures, including the In-Drive Questionnaire, the Post-Drive Questionnaire, and the Balloon Analogue Risk Task, each performed once.

Data collection will involve approximately 700 respondents for the Eligibility Questionnaire (with approximately 400 potentially meeting eligibility criteria) and 300 respondents for the Pre-Drive Questionnaire, Wellness Questionnaire, the Driving Behavior Assessment, the Post-Drive Questionnaire, and the Balloon Analogue Risk Task. A summary of the estimated numbers of individuals that will complete the noted question sets is provided in the following table.

Estimated Number of Total Respondents
Information collection | NHTSA form No. | Participants (i.e., respondents)
Eligibility Questionnaire | 1742 | 700.
Informed Consent Study 1 | 1743 | 180.
Informed Consent Study 2 | 1744 | 60.
Informed Consent Study 3 | 1745 | 60.
Pre-Drive Questionnaire | 1746 | 300 (180 Study 1, 60 Study 2, 60 Study 3).
Wellness Questionnaire | 1747 | 300 (180 Study 1, 60 Study 2, 60 Study 3).
Driving Behavior Assessment (Pre-Drive PowerPoint Training, Familiarization Drive, Study Drive with In-Drive Questionnaire) | 1748 | 300 (180 Study 1, 60 Study 2, 60 Study 3).
Post-Drive Questionnaire | 1749 | 300 (180 Study 1, 60 Study 2, 60 Study 3).
Balloon Analogue Risk Task |  | 300 (180 Study 1, 60 Study 2, 60 Study 3).

Frequency: One-time collection

Estimated Annual Burden Hours: The annual burden hours is estimated to be 301 hours per year.

The Eligibility Questionnaire (NHTSA Form 1742) is estimated to take 11 minutes (averaging those who complete the questionnaire and those who do not complete the questionnaire). The Informed Consent Study 1 (NHTSA Form 1743) is estimated to take 20 minutes. The Informed Consent Study 2 (NHTSA Form 1744) is estimated to take 20 minutes. The Informed Consent Study 3 (NHTSA Form 1745) is estimated to take 20 minutes. The Pre-Drive Questionnaire (NHTSA Form 1746) is estimated to take 15 minutes. The Wellness Questionnaire (NHTSA Form 1747) is estimated to take 5 minutes and is taken three times. The Driving Behavior Assessment (Pre-Drive PowerPoint Training, Familiarization Drive, Study Drive with In-Drive Questionnaire (NHTSA Form 1748) is estimated to take 80 minutes. The Post-Drive Questionnaire (NHTSA Form 1749) is estimated to take 20 minutes. The Balloon Analogue Risk Task (BART) is estimated to take 5 minutes.

The estimated annual time and cost burdens across all three study data collections are summarized in the table below. To calculate the opportunity cost associated with the forms and other relevant activities necessary for this collection of new information, NHTSA looked at average hourly earnings for employees on private nonfarm payrolls. NHTSA estimated the total opportunity costs associated with these burden hours by looking at the average wage for total private employees on private nonfarm payrolls. The Bureau of Labor Statistics (BLS) estimates that the average hourly wage for this group is $33.82.¹ Note that the costs in the table are opportunity costs and not labor costs, thus there is no burden cost associated with the study.

¹ See Table B-3 Average hourly and weekly earnings of all employees on private nonfarm payrolls by industry sector, seasonally adjusted, for August 2023, available at https://www.bls.gov/news.release/empsit.t19.htm (accessed October 3, 2023). See Table 1. Employer Costs for Employee Compensation by ownership (June 2023), available at https://www.bls.gov/news.release/ecec.t01.htm (accessed October 3, 2023).

Annual Burden Calculations
Information collection | Number of respondents annual | Time per response (min) | Cost per response | Frequency of response | Burden (hours) annual | Opportunity cost (dollars) annual
Eligibility questionnaire | 233 | 11 | $6.20 | 1 | 43 | $1,445
Informed Consent, Study 1 | 60 | 20 | 11.27 | 1 | 20 | 676
Informed Consent, Study 2 | 20 | 20 | 11.27 | 1 | 7 | 225
Informed Consent, Study 3 | 20 | 20 | 11.27 | 1 | 7 | 225
Pre-Drive Questionnaire | 100 | 15 | 8.46 | 1 | 25 | 846
Wellness Questionnaire | 100 | 5 | 2.82 | 3 | 25 | 846
Driving Behavior Assessment (Pre-Drive PowerPoint Training, Familiarization Drive, Study Drive with In-Drive Questionnaire) | 100 | 80 | 45.09 | 1 | 133 | 4,509
Post-Drive Questionnaire | 100 | 20 | 11.27 | 1 | 33 | 1,127
Balloon Analogue Risk Task | 100 | 5 | 2.82 | 1 | 8 | 282
Annual Burden |  |  |  |  | 301 | 10,181

Estimated Annual Burden Cost: $0

The respondents will not incur any reporting or recordkeeping cost from the information collection. Respondents will incur a one-time cost for local travel to and from DSRI, which is estimated not to exceed approximately $39.30 (based on the standard mileage rate for business-related driving in 2023 and a round trip distance of 60 miles ²). These transportation costs are offset by participant compensation.

² https://www.irs.gov/tax-professionals/standard-mileage-rates; IR-2022-234 published December 29, 2022

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Cem Hatipoglu,
Associate Administrator, NHTSA Vehicle Safety Research.

[FR Doc. 2024-12735 Filed 6-10-24; 8:45 am]

BILLING CODE 4910-59-P